DEPARTMENT OF AGRICULTURE

Grain Inspection, Packers and Stockyards Administration

[00-04-C]

Opportunity to Comment on the Applicants for the Fremont (NE) Area

AGENCY: Grain Inspection, Packers and Stockyards Administration (GIPSA).

ACTION: Notice.

SUMMARY: GIPSA requests comments on the applicants for designation to provide official services in the geographic areas assigned to Fremont Grain Inspection Department, Inc. (Fremont).

DATES: Comments must be postmarked, or sent by telecopier (FAX) by March 31, 2001.

ADDRESSES: Comments must be submitted in writing to USDA, GIPSA, Janet M. Hart, Chief, Review Branch, Compliance Division, STOP 3604, Room 1647-S, 1400 Independence Avenue, SW., Washington, DC 20250-3604. Telecopier (FAX) users may send comments to the automatic telecopier machine at 202-690-2755, attention: Janet M. Hart. All comments received will be made available for public inspection at the above address at 1400 Independence Avenue, SW., during regular business hours.

FOR FURTHER INFORMATION CONTACT: Janet M. Hart at 202-720-8525, e-mail janhart@gipsadc.usda.gov.

SUPPLEMENTARY INFORMATION: This Action has been reviewed and determined not to be a rule or regulation as defined in Executive Order 12866 and Departmental Regulation 1512-1; therefore, the Executive Order and Departmental Regulation do not apply to this action.

In the December 1, 2000, Federal Register (65 FR 175237), GIPSA asked persons interested in providing official services in the Fremont area to submit an application for designation. There were two applicants for the Fremont area: Fremont and Sioux City Inspection and Weighing Service Company (Sioux City). Fremont applied for designation to provide official services in the entire area currently assigned to them. Sioux City, a designated official grain inspection agency operating in Iowa, Nebraska, and South Dakota, applied for designation to provide official services in all or part of the Fremont geographical area.

GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: Pub. L. 94-582, 90 Stat. 2867, as amended (7 U.S.C. 71 et seq.).

Dated: February 20, 2001.
David R. Shipman,
Acting Administrator, Grain Inspection, Packers and Stockyards Administration.

[FR Doc. 01-5648 Filed 3-7-01; 8:45 am]

BILLING CODE 3410-EN-P